OFFICE OF THE UNITED STATES TRADE REPRESENTATIVE

[Docket Number USTR-2016-0022]

Request for Public Comments Regarding the Interim Environmental Review of the WTO Environmental Goods Agreement

AGENCY: Office of the United States Trade Representative.

ACTION: Notice and request for comments.

SUMMARY: The Office of the United States Trade Representative (USTR), on behalf of the Trade Policy Staff Committee (TPSC), invites written comments from the public on the interim environmental review of the proposed WTO Environmental Goods Agreement (EGA). The interim environmental review will be available at https://ustr.gov/issue-areas/environment/environmental-reviews.

DATES: Written comments are due by 11:59 p.m. on November 21, 2016.

ADDRESSES: You should submit written comments through the Federal eRulemaking Portal (http://www.regulations.gov) using docket number USTR-2016-0022. Follow the instructions for submitting comments in section II below. USTR strongly encourages filing submissions electronically. For alternatives to on-line submissions, please contact Yvonne Jamison (202-395-3475) before transmitting a comment and in advance of the relevant deadline.

FOR FURTHER INFORMATION CONTACT: Direct questions regarding the submission of comments to Yvonne Jamison at (202) 395-3475. Direct questions concerning the interim environmental review to William McElnea at (202) 395-7320.

SUPPLEMENTARY INFORMATION:

1. Background

Executive Order 13141, Environmental Review of Trade Agreements, and its implementing guidelines, 64 FR 63169, Nov. 18, 1999, and 65 FR 79442, Dec. 19, 2000, respectively, provide for the conduct of environmental reviews of certain international trade agreements. The Executive Order and guidelines are available at: https://ustr.gov/issue-areas/environment/environmental-reviews. The purpose of environmental reviews is to ensure that policymakers and the public are informed about reasonably foreseeable environmental impacts of trade agreements (both positive and negative), to identify complementarities between trade and environmental objectives, and to help shape appropriate responses if environmental impacts are identified. Reviews are intended to be one tool, among others, for integrating environmental information and analysis into the fluid, dynamic process of trade negotiations. USTR and the Council on Environmental Quality jointly oversee implementation of the Order and Guidelines. USTR, through the TPSC, is responsible for conducting the individual reviews.

II. Requirements for Submissions

Persons submitting comments must do so in English and must identify on the first page of the submission, “Comments Regarding the EGA Interim Environmental Review.” In order to be assured of consideration, comments should be submitted by 11:59 p.m. on November 21, 2016.

In order to ensure the timely receipt and consideration of comments, USTR strongly encourages commenters to make on-line submissions, using the www.regulations.gov Web site. To submit comments via www.regulations.gov, enter docket number USTR-2016-0022 on the home page and click “search.” The site will provide a search results page listing all documents associated with this docket. Find a reference to this notice and click on the link entitled “Comment Now!” For further information on using the www.regulations.gov Web site, please consult the resources provided on the Web site by clicking on “How to Use Regulations.gov” on the bottom of the home page.

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information also must submit a public version of their comments. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. Any alternative arrangements must be made with Yvonne Jamison in advance of transmitting a comment. You can contact Ms. Jamison at (202) 395-3475. General information concerning USTR is available at www.ustr.gov.

Comments will be placed in the docket and open to public inspection, except business confidential information. Comments may be viewed on the www.regulations.gov Web site by entering the relevant docket number in the search field on the home page.

Edward Gresser,
Chair of the Trade Policy Staff Committee, Office of the United States Trade Representative.

[FR Doc. 2016-25636 Filed 10-21-16; 8:45 am]

BILLING CODE 3290-F7-P